DEPARTMENT OF THE INTERIOR

National Park Service

Notice of Intent To Repatriate a Cultural Item in the Possession of the Peabody Museum of Archaeology and Ethnology, Harvard University, Cambridge, MA

AGENCY: National Park Service.

ACTION: Notice.

Notice is hereby given under the Native American Graves Protection and Repatriation Act, 43 CFR 10.10 (a)(3), of the intent to repatriate a cultural item in the possession of the Peabody Museum of Archaeology and Ethnology, Harvard University, Cambridge, MA, that meets the definition of “unassociated funerary object” under section 2 of the Act.

This notice is published as part of the National Park Service's administrative responsibilities under NAGPRA, 43 CFR 10.2(c). The determinations within this notice are the sole responsibility of the museum, institution, or Federal agency that has control of this cultural item. The National Park Service is not responsible for the determinations within this notice.

The one cultural item is a camas digger made of antler.

According to museum records, prior to 1905, this cultural item was recovered “from a grave” of the Quinault Indians in the State of Washington. In 1905, this cultural item was purchased by Grace A. Nicholson and donated to the Peabody Museum of Archaeology and Ethnology by Lewis Farlow.

Based on the specific cultural affiliation described by the collector, this burial was most likely a Quinault burial from the historic period.

Based on the above-mentioned information, officials of the Peabody Museum of Archaeology and Ethnology have determined that, pursuant to 43 CFR 10.2(d)(2)(ii), this one cultural item is reasonably believed to have been placed with or near individual human remains at the time of death or later as part of the death rite or ceremony and are believed, by a preponderance of the evidence, to have been removed from a specific burial site of a Native American individual. Officials of the Peabody Museum of Archaeology and Ethnology also have determined that, pursuant to 43 CFR 10.2(e), there is a relationship of shared group identity that can be reasonably traced between this cultural item and the Quinault Tribe of the Quinault Reservation, Washington.

This notice has been sent to officials of the Quinault Tribe of the Quinault Reservation, Washington. Representatives of any other Indian tribe that believes itself to be culturally affiliated with this unassociated funerary object should contact Barbara Isaac, Repatriation Coordinator, Peabody Museum of Archaeology and Ethnology, 11 Divinity Avenue, Cambridge, MA 02138, telephone (617) 495-2254, before July 5, 2001. Repatriation of this unassociated funerary object to the Quinault Tribe of the Quinault Reservation, Washington may begin after that date if no additional claimants come forward.

Dated: April 6, 2001.
John Robbins,
Assistant Director, Cultural Resources Stewardship and Partnerships.

[FR Doc. 01-13964 Filed 6-1-01; 8:45 am]

BILLING CODE 4310-70-F